DEPARTMENT OF TRANSPORTATION

Federal Railroad Administration

[Docket Number FRA-2012-0067]

Petition for Extension of Waiver of Compliance

Under part 211 of title 49 Code of Federal Regulations (CFR), this document provides the public notice that on November 30, 2022, the Peninsula Corridor Joint Powers Board (JPBX), which owns and operates Caltrain, petitioned the Federal Railroad Administration (FRA) for an extension of a waiver of compliance from certain provisions of the Federal railroad safety regulations contained at 49 CFR part 215 (Railroad Freight Car Safety Standards). The relevant FRA Docket Number is FRA-2012-0067.

Specifically, JPBX requested to extend its special approval pursuant to 49 CFR 215.203, Restricted cars, for 2 flat-straight deck cars, JPBX 711 and JPBX 712, that are more than 50 years from the date of original construction. JPBX also requests to extend its existing relief from 49 CFR 215.303, Stenciling of restricted cars. JPBX seeks to continue use of the cars to transport decorations during its annual Holiday Train event. In support of its request, JPBX states that the cars have been inspected and determined to be safe for continued operation and they will not be interchanged.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at http://www.regulations.gov. Follow the online instructions for submitting comments.

Communications received by March 24, 2023 will be considered by FRA before final action is taken. Comments received after that date will be considered if practicable.

Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety Chief Safety Officer.

[FR Doc. 2023-01169 Filed 1-20-23; 8:45 am]

BILLING CODE 4910-06-P